DEPARTMENT OF COMMERCE

National Oceanic and Atmospheric Administration

[RTID 0648-XD033]

New England Fishery Management Council; Public Meeting

AGENCY: National Marine Fisheries Service (NMFS), National Oceanic and Atmospheric Administration (NOAA), Commerce.

ACTION: Notice of public meeting.

SUMMARY: The New England Fishery Management Council (Council, NEFMC) will hold a one-day closed-session meeting to address employment matters.

DATES: The meeting was held on Wednesday, May 31, 2023, from 9 a.m. to 5 p.m.

ADDRESSES:

Meeting address: The meeting will be held at the Four Points by Sheraton Wakefield Boston Hotel and Conference Center, One Audubon Road, Wakefield, MA 01880; telephone: (781) 245-9300.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Wednesday, May 31, 2023

The Council will meet as a whole in closed session to discuss employment matters. This is the sole item of business on the agenda.

Special Accommodations

No special accommodations are needed for this meeting, which will be conducted in closed session without members of the public present.

Authority: 16 U.S.C. 1801 et seq.

Dated: May 16, 2023.
Rey Israel Marquez,
Acting Deputy Director, Office of Sustainable Fisheries, National Marine Fisheries Service.

[FR Doc. 2023-10792 Filed 5-18-23; 8:45 am]

BILLING CODE 3510-22-P